DEPARTMENT OF THE TREASURY

Office of Foreign Assets Control

Actions Taken Pursuant to Executive Order 13382 Related to the Islamic Republic of Iran Shipping Lines (IRISL)

AGENCY: Office of Foreign Assets Control, Treasury.

ACTION: Notice.

SUMMARY: The Treasury Department's Office of Foreign Assets Control (“OFAC”) is publishing on OFAC's list of Specially Designated Nationals and Blocked Persons the names of 10 newly-designated entities and three newly-designated individuals whose property and interests in property are blocked pursuant to Executive Order 13382 of June 28, 2005, “Blocking Property of Weapons of Mass Destruction Proliferators and Their Supporters.”

DATES: The designation by the Director of OFAC, pursuant to Executive Order 13382, of the 10 entities and three individuals identified in this notice was effective on June 20, 2011.

FOR FURTHER INFORMATION CONTACT: Assistant Director, Sanctions Compliance & Evaluation, tel.: 202/622-2490, Office of Foreign Assets Control; Assistant Director for Policy, tel.: 202/622-4855, Office of Foreign Assets Control; or Chief Counsel (Foreign Assets Control), tel.: 202/622-2410, Office of the General Counsel, Department of the Treasury, Washington, DC 20220.

SUPPLEMENTARY INFORMATION:

Electronic and Facsimile Availability

This document and additional information concerning OFAC are available from OFAC's Web site (http://www.treas.gov/offices/enforcement/ofac) or via facsimile through a 24-hour fax-on demand service, tel.: (202) 622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On June 20, 2011, the Director of OFAC, in consultation with the Departments of State, Justice, and other relevant agencies, designated 10 entities and three individuals whose property and interests in property are blocked pursuant to Executive Order 13382.

The list of additional designees is as follows:

Entities

ATLANTIC INTERMODAL, United Arab Emirates [NPWMD].

AZORES SHIPPING COMPANY LL FZE, P.O. Box 5232, Fujairah, United Arab Emirates; Business Registration Document #2112 (United Arab Emirates); Telephone: 97192282978; Fax: 97192282979 [NPWMD].

CRYSTAL SHIPPING FZE, Dubai, United Arab Emirates; E-mail Address md@pacificship.net; Fax: 97143591921 [NPWMD].

FAIRWAY SHIPPING LTD, 83 Victoria Street, London SW1H 0HW, United Kingdom; Business Registration Document #6531277 (United Kingdom); Telephone: 02072229255 [NPWMD].

GREAT OCEAN SHIPPING SERVICES (L.L.C.), 2nd Floor, Sharaf Building, Al Mina Road, Bur Dubai, Dubai, United Arab Emirates; Business Registration Document #606318 (United Arab Emirates) issued 5 Feb 2008; E-mail Address info@oceanshg.com; Web site http://www.oceanshg.com; Telephone: 97143525000; Fax: 97143518008 [NPWMD].

LEADING MARITIME PTE. LTD. (a.k.a. LEADMARINE), 200 Middle Road, #14-01 Prime Centre 188980, Singapore; Business Registration Document #200818433E (Singapore) issued 2008; Telephone: 6563343772; Fax: 6563343126 [NPWMD].

LEADMARINE (a.k.a. LEADING MARITIME PTE. LTD.), 200 Middle Road, #14-01 Prime Centre 188980, Singapore; Business Registration Document #200818433E (Singapore) issued 2008; Telephone: 6563343772; Fax: 6563343126 [NPWMD].

PACIFIC SHIPPING DMCEST, 206, Sharaf Building, Al Mina Road, Bur Dubai, Dubai, United Arab Emirates; Business Registration Document #167694 (United Arab Emirates) issued 2008; E-mail Address ops@pacificship.net; alt. E-mail Address pacific@pacificship.net; Telephone: 97143595580; Alt. Telephone: 97143516363; Fax: 97143527812 [NPWMD].

PEARL SHIP MANAGEMENT L.L.C., Dubai, United Arab Emirates; Email Address technical@pearlsmc.com; Telephone: 97143525333; Fax: 97143518008 [NPWMD].

SANTEX LINES LIMITED (a.k.a. SANTEX SHIPPING COMPANY; a.k.a. SANTEXLINES), Suite 1501, Shanghai Zhongrong Plaza, 1088 Pudong (S) Road, Shanghai 200122, China; F23A-D, Times Plaza No. 1, Taizi Road, Shekou, Shenzhen 518067, China [NPWMD].

SANTEX SHIPPING COMPANY (a.k.a. SANTEX LINES LIMITED; a.k.a. SANTEXLINES), Suite 1501, Shanghai Zhongrong Plaza, 1088 Pudong (S) Road, Shanghai 200122, China; F23A-D, Times Plaza No. 1, Taizi Road, Shekou, Shenzhen 518067, China [NPWMD].

SANTEXLINES (a.k.a. SANTEX LINES LIMITED; a.k.a. SANTEX SHIPPING COMPANY), Suite 1501, Shanghai Zhongrong Plaza, 1088 Pudong (S) Road, Shanghai 200122, China; F23A-D, Times Plaza No. 1, Taizi Road, Shekou, Shenzhen 518067, China [NPWMD].

SINOSE MARITIME PTE. LTD., 200 Middle Road, #14-03/04 Prime Centre 188980, Singapore; Business Registration Document #198200741H (Singapore) issued 1982; Telephone: 6562201144; Fax: 6562240181; Alt. Fax: 6562255614 [NPWMD].

Individuals

MOGHADDAMI FARD, Mohammad, United Arab Emirates; DOB 19 Jul 1956; nationality Iran; Passport N10623175 (Iran) issued 27 Mar 2007 expires 26 Mar 2012 (individual) [NPWMD].

TAFAZOLI, Ahmad (a.k.a. TAFAZOLY, Ahmad; a.k.a. TAFAZZOLI, Ahmad); DOB 27 May 1956; POB Bojnord, Iran; nationality Iran; Passport R10748186 (Iran) issued 22 Jan 2007 expires 22 Jan 2012 (individual) [NPWMD].

GHEZEL AYAGH, Alireza (a.k.a. GHEZELAYAGH, Alireza); DOB 8 Mar 1979; POB Kerman, Iran; nationality Iran; Passport E12596608 (Iran) (individual) [NPWMD].

Dated: August 29, 2011.
Adam J. Szubin,
Director, Office of Foreign Assets Control.

[FR Doc. 2011-22681 Filed 9-2-11; 8:45 am]

BILLING CODE 4810-AL-P